SOCIAL SECURITY ADMINISTRATION

[Docket No. SSA-2014-0016]

Rescission of Social Security Ruling 05-02; Titles II and XVI: Determination of Substantial Gainful Activity if Substantial Work Activity Is Discontinued or Reduced—Unsuccessful Work Attempt

AGENCY: Social Security Administration.

ACTION: Notice of rescission of Social Security Ruling 05-02.

SUMMARY: The Office of the Commissioner gives notice of the rescission of Social Security Ruling (SSR) 05-02.

DATES: This rescission is effective May 14, 2018.

FOR FURTHER INFORMATION CONTACT: Kristine Erwin-Tribbitt, Office of Retirement and Disability Policy, Office of Research, Demonstration, and Employment Support, Social Security Administration, 6401 Security Boulevard, Robert Ball Building 3-A-26, Baltimore, MD 21235-6401, (410) 965-3353. For information on eligibility or filing for benefits, call our national toll-free number 1-800-772-1213, or TTY 1-800-325-0778, or visit our internet site, Social Security online, at http://www.socialsecurity.gov.

SUPPLEMENTARY INFORMATION: Through SSRs, we make available to the public precedential decisions relating to the Federal old-age, survivors, disability, supplemental security income, and special veterans benefits programs. We may base SSRs on determinations or decisions made at all levels of administrative adjudication, Federal court decisions, Commissioner's decisions, opinions of the Office of General Counsel, or other interpretations of the law and regulations.

On February 28, 2005, we published SSR 05-02, which provides guidance about determining whether substantial work activity that is discontinued or reduced below a specified level may be considered an unsuccessful work attempt (UWA) under the disability provisions of the law. SSR 05-02 explains the policies and procedures for evaluating a work effort of 3 months or less and work efforts between 3 and 6 months.

On October 17, 2016, we published final rules, Unsuccessful Work Attempts and Expedited Reinstatement Eligibility, in the Federal Register at 81 FR 71367. These rules, among other things, removed some of the requirements for evaluation of an UWA that lasts between 3 and 6 months. Specifically, the rules removed the additional conditions that we used when we evaluated a work attempt in employment or self-employment that lasted between 3 and 6 months and provided that we now use one standard for work attempts lasting 6 months or less.

Due to these final rules and the resulting simplification of our policies, SSR 05-02 is no longer correct. The final rules at 20 CFR 404.1574(c), 404.1575(d), 416.974(c), 416.975(d) (unsuccessful work attempts) were effective November 16, 2016. Consequently, we are rescinding SSR 05-02 as obsolete. Notice of this rescission is published in accordance with 20 CFR 402.35(b)(1).

(Catalog of Federal Domestic Assistance Programs Nos. 96.001, Social Security—Disability Insurance; 96.002, Social Security—Retirement Insurance; 96.004, Social Security—Survivors Insurance; 96.006—Supplemental Security Income)

Nancy Berryhill,
Acting Commissioner of Social Security.

[FR Doc. 2018-10249 Filed 5-11-18; 8:45 am]

BILLING CODE 4191-02-P